DEPARTMENT OF ENERGY

[Number DE-PS36-02GO92009]

Solicitation for Financial Assistance Applications; National Industrial Competitiveness Through Energy, Environment, and Economics (NICE ³) Program

AGENCY: Golden Field Office, Department of Energy (DOE).

ACTION: Notice of solicitation for financial assistance applications.

SUMMARY: The Department of Energy's Office of Industrial Technologies (OIT) is funding a competitive grant program entitled the National Industrial Competitiveness Through Energy, Environment, and Economics (NICE ³) Program. The goal of the NICE ³ Program is to advance U.S. competitiveness through commercial demonstration of energy efficient and clean production manufacturing and industrial technologies in industry. This is accomplished by providing cost-shared, financial assistance to state and industry partnerships. The following focus industries, which are the dominant energy users and waste generators in the U.S. manufacturing sector, are of particular interest to the DOE program: agriculture, aluminum, chemicals, forest products, glass, metal-casting, mining, petroleum, and steel.

DATES: DOE issued the solicitation on May 1, 2002. The deadline for receipt of applications is 3:00 pm Mountain Time on June 28, 2002.

ADDRESSES: The formal solicitation document will be disseminated electronically as Solicitation Number DE-PS36-02GO92009, National Industrial Competitiveness Through Energy, Environment, and Economics (NICE ³) Program. Access DOE Golden Field Office Home Page at http://www.golden.doe.gov/businessopportunities.html, click on “Solicitations”, and then access the solicitation number. The Golden Home Page will also provide instructions on registering and submitting applications in the Industry Interactive Procurement System (IIPS) web site. The Solicitation can also be obtained directly through IIPS at http://e-center.doe.gov by browsing opportunities by Contracting Activity. DOE will not issue paper copies of the solicitation. IIPS provides the medium for disseminating solicitations, receiving financial assistance applications, and evaluating the applications in a paperless environment. Completed applications are required to be submitted via IIPS. Individuals who have the authority to enter their company into a legally binding contract/agreement and intend to submit proposals/applications via the IIPS system must register and receive confirmation that they are registered prior to being able to submit an application on the IIPS system. An IIPS “User Guide for Contractors” can be obtained by going to the Golden Field Office Homepage at http://www.golden.doe.gov/businessopportunities.html. Questions regarding the operation of IIPS may be e-mailed to the IIPS Help Desk at IIPS_HelpDesk@e-center.doe.gov or call the help desk at (800) 683-0751.

FOR FURTHER INFORMATION CONTACT: Margo Gorin, Contract Specialist, at go_I&I@nrel.gov.

SUPPLEMENTARY INFORMATION: Solicitation Specifications: To be eligible to apply for this financial assistance program, applicants must be a state agency in partnership with an industry partner(s) or an industry partner(s) who has coordinated state agency endorsement. Endorsement, here, refers to the act of a state(s): (1) Recommending the proposed technology demonstration, (2) waiving its role as the primary applicant, and (3) assigning that role to industry via signature on the “State Endorsement Form.” The “State Endorsement Form” must be reprinted on official state agency letterhead for signature by a state official, in cases where state agencies decline to be the primary applicant. State agencies include state energy, state environmental, state business development, or any state agency as defined by 10 CFR 600.202. In addition to the 50 states, the District of Columbia, the U.S. Virgin Islands, the Commonwealth of Puerto Rico, any territory or possession of the U.S., and all federally-recognized Indian tribes are eligible as described in 10 CFR 600.202. Applicants are not limited in the number of applications they can submit, provided that multiple applications are not submitted for the same project. Also more than one organization may be involved in an application, as long as the lead organization and lead financial assistance management responsibilities are defined. The Catalog of Federal Domestic Assistance number assigned to the NICE ³ Program is 81.105. Non-federal cost share from a combination of state and industrial partner sources for a single award must be at least 50% of the total cost of the project (if $500,000 in federal funding is requested, cost-share must equal at least $500,000. Cash, equipment, labor, and in-kind contributions are all allowable as cost share as defined in 10 CFR 600.123 and 600.224).

The Golden Field Office has been assigned the responsibility of issuing the solicitation, and the awards will be administered by DOE's Regional Offices. The Program's intent is to encourage highly leveraged funding to get an innovative project commercially demonstrated in industry by the end of the award period. The NICE³ Program will provide financial assistance for the first production-scale, commercial demonstration of an industrial process. To be ready for commercial demonstration, all research and development activities must already be completed with successful test results. By the end of the financial assistance project period, an industrial scale, commercial demonstration must be completed in the U.S. At the end of the project, the technology/process must be ready for commercialization. Grants range up to $525,000. A 50% cost share is required. DOE anticipates awarding up to 4 awards, and each award may cover a project period of up to 3 years. No additional funding of applications for continuation of work beyond the award period is envisioned or planned by DOE.

A selection of former projects funded by the NICE³ Program include the following:

• AAP St. Mary's in Ohio is improving cost of sales and reducing waste and pollution by recycling aluminum on-site.

• Beta Control Systems in Oregon has developed a closed loop hydrochloric acid recovery system for small to mid-size steel companies by integrating innovative materials with automatic controls.

• Brittany Dyeing & Printing in Massachusetts has developed a new process that increases productivity and energy efficiency in fabric finishing.

• Caterpillar in Illinois is recycling paint overspray in heavy construction equipment.

• ChemStone Inc. of South Carolina is demonstrating a newly developed patented chemistry for the pulp and paper industry that results in better fiber breakdown, higher pulp yields, and cleaner pulp when added to the pulping process.

Availability of Funds for FY 2003: DOE is announcing the availability of up to $2 million dollars in grant agreement funds for Fiscal Year 2003. The awards will be made through a competitive solicitation process. DOE reserves the right to fund in whole or in part any, all, or none of the proposals submitted in response to this notice.

Issued in Golden, Colorado on May 1, 2002.
Matthew A. Barron,
Acting Director, Office of Acquisition and Financial Assistance, Golden Field Office.

[FR Doc. 02-12099 Filed 5-14-02; 8:45 am]

BILLING CODE 6450-01-P